ENVIRONMENTAL PROTECTION AGENCY

40 CFR Part 434

[FRL-6707-5]

Coal Mining Point Source Category; Amendments to Effluent Limitations Guidelines and New Source Performance Standards; Notice of Public Meetings

AGENCY: Environmental Protection Agency (EPA).

ACTION: Proposed rule; notice of public meetings.

SUMMARY: On April 11, 2000, EPA proposed amendments to the effluent limitations guidelines and new source performance standards for the Coal Mining Point Source Category (65 FR 19440). The comment period on this proposal will close on July 10, 2000. EPA will conduct public meetings at six locations during the comment period. EPA is inviting all interested members of the public to attend these meetings and to present comments. No meeting materials will be distributed in advance.

DATES: EPA will conduct three public meetings in June regarding the proposed regulations for the Coal Remining Subcategory and three additional meetings, also in June, for the Western Alkaline Subcategory. The dates and locations are listed below in the Supplementary Information section.

FOR FURTHER INFORMATION CONTACT: John Tinger at (202) 260-4992 or by e-mail at “Tinger.John@epa.gov.” The Federal Register notice of proposed rulemaking, fact sheet, and support documents can be obtained from http://www.epa.gov/OST/guide.

SUPPLEMENTARY INFORMATION: Public meetings regarding proposal of effluent limitations and standards for the Coal Remining Subcategory will be held at the following times and locations:

June 13, 2000, starting at 6:00 pm at the West Virginia Division of Environmental Protection, Office of Mining and Reclamation, Training Room, 10 McJunkin Rd., Nitro, WV.

June 14, 2000, starting at 6:00 pm at the Kentucky Department for Surface Mining Reclamation and Enforcement, Training Room, 2 Hudson Hollow Rd., Frankfort, KY.

June 15, 2000, starting at 6:00 pm at the Muskingum Valley Conference Center, Holiday Inn, 4645 East Pike, Zanesville, OH.

Public meetings regarding proposal of effluent limitations and standards for the Western Alkaline Coal Mining Subcategory will be held at the following times and locations:

June 22, 2000, starting at 1:00 pm at the Institute for Tribal Environmental Professionals at Northern Arizona University, University Union Building 30, Havasupai Conference Room, Knoles Drive, Flagstaff, AZ.

June 28, 2000, starting at 9:00 am at the U.S. Department of the Interior, Office of Surface Mining Reclamation and Enforcement, 1999 Broadway, Room 3340, Denver, CO.

June 29, 2000, starting at 1:00 pm at the Best Western Tower West Lodge, 109 North US 14, Gillette, WY.

These meetings will not be recorded by a reporter or transcribed for inclusion in the public record. Comments and speakers are invited at the meetings, but comments to be included in the record must either be submitted in writing at the meetings, or submitted in writing in accordance with the instructions in the notice of proposed rulemaking (65 FR 19440).

Dated: May 22, 2000.
Geoffrey H. Grubbs,
Director, Office of Science and Technology.

[FR Doc. 00-13561 Filed 5-31-00; 8:45 am]

BILLING CODE 6560-50-P